DEPARTMENT OF HEALTH AND HUMAN SERVICES

Indian Health Service

Health Promotion and Disease Prevention Grant Program: Correction

ACTION: Notice; correction.

SUMMARY: The Indian Health Service published a document in the Federal Register on April 5, 2006. The document contained one error.

FOR FURTHER INFORMATION CONTACT: Alberta Becenti, Health Promotion and Disease Prevention Consultant, Indian Health Service, Reyes Building, 801 Thompson Avenue, Suite 307, Rockville, MD 20852, Telephone (301) 443-4305. (This is not a toll-free number.)

Correction

In the Federal Register of April 5, 2006, in FR Doc. 06-3257, on page 17111, in the second column, correct by deleting Section VIII. Other Information in its entirety.

Dated: May 9, 2006.
Robert G. McSwain,
Deputy Director, Indian Health Service.

[FR Doc. 06-4506 Filed 5-12-06; 8:45 am]

BILLING CODE 4165-16-M